DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before February 14, 2022.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on January 7, 2022.
Donald P. Burger,
Chief, General Approvals and Permits Branch.

Special Permits Data
Application No. | Applicant | Regulation(s) affected | Nature of the special permits thereof
21315-N | Umbra Lab, Inc | 173.185(e) | To authorize the transportation in commerce of prototype lithium batteries contained in equipment by motor vehicle. (mode 1).
21316-N | Cryoconcepts, LP | 171.2(k), 172.200, 172.300, 172.400, 172.700(a) | To authorize the transportation in commerce of DOT 3AL cylinders containing carbon dioxide using alternative hazard communication. Additionally, the application requests authorization for cylinders charged to a pressure of less than 29.0 psig to be shipped as a hazardous material. (modes 1, 2, 3).
21317-N | Spaceflight, Inc | 173.185(e)(3) | To authorize the transportation in commerce of satellites containing prototype or low production lithium batteries in alternative packaging by motor vehicle. (mode 1).
21318-N | Mercedes-Benz Ag | 172.101(j), 173.185(b)(1) | To authorize the transportation in commerce of lithium batteries exceeding 35 kg by cargo-only aircraft. (mode 4).
21320-N | Amazon.com, Inc | 173.220(d), 173.156(a), 173.159a(c), 173.185(c) | To authorize the transportation in commerce of small lithium batteries, non-spillable batteries, and battery powered vehicles in alternative packaging (shrink-wrapped overpacks). (modes 1, 2).
21321-N | Jaco, Inc | 172.200, 172.700(a) | To authorize the manufacture, mark, sale, and use of packagings for lithium batteries without requiring shipping papers, emergency response information and dangerous goods awareness training. (modes 1, 2, 3).
21322-N | Federal Express Corporation | 175.75(c), 175.75(d) | To authorize the transportation in commerce of certain hazardous materials with relief from the quantity limitations and cargo location requirements under 49 CFR 175.75 (c) and (d). (mode 4).

[FR Doc. 2022-00449 Filed 1-12-22; 8:45 am]

BILLING CODE 4909-60-P